Title 3—

The President

Proclamation 8770 of December 29, 2012—To Modify Duty-Free Treatment Under the Generalized System of Preferences and for Other Purposes

Correction

In Presidential document 2012-19 beginning on page 407 in the issue of Wednesday, January 4, 2012, make the following correction:

On page 407, the date following the proclamation number should read “December 29, 2011”

[FR Doc. C1-2012-19

Filed 1-17-12; 8:45 am]

Billing Code 1505-01-D